DEPARTMENT OF COMMERCE

Bureau of Industry and Security

15 CFR Part 744

Control Policy: End-User and End-Use Base

CFR Correction

In Title 15 of the Code of Federal Regulations, Parts 300 to 799, revised as of January 1, 2015, on page 414, in supplement no. 4 to part 744, remove the entry for “Sergey Grinenko” from “GREECE” and add it in alphabetical order under “GERMANY”.

[FR Doc. 2015-33049 Filed 12-30-15; 8:45 am]

BILLING CODE 1505-01-D